NUCLEAR REGULATORY COMMISSION

Advisory Committee on Reactor Safeguards (ACRS); Meeting of the ACRS Subcommittee on AP1000; Revision to October 21, 2010, ACRS Meeting Federal Register Notice

The Federal Register Notice for the AP1000 Subcommittee Meeting is being revised to notify the following:

This meeting will be held on Wednesday, November 17, 2010, Thursday, November 18, 2010, and Friday, November 19, 2010 from 8:30 a.m. until 5 p.m.

The notice of this meeting was previously published in the Federal Register on Thursday, October 21, 2010, [75 FR 65036-65037]. All other items remain the same as previously published.

Further information regarding this meeting can be obtained by contacting Weidong Wang, Designated Federal Office (Telephone 301-415-6279, E-mail: Weidong.Wang@nrc.gov between 7:30 a.m. and 5:15 p.m. (ET)).

Dated: October 21, 2010.
Antonio F. Dias,
Chief, Reactor Safety Branch B, Advisory Committee on Reactor Safeguards.

[FR Doc. 2010-27273 Filed 10-27-10; 8:45 am]

BILLING CODE 7590-01-P